DEPARTMENT OF COMMERCE

International Trade Administration

[A-570-848]

Freshwater Crawfish Tail Meat From the People's Republic of China: Initiation of Antidumping Duty New Shipper Reviews

AGENCY: Import Administration, International Trade Administration, Department of Commerce.

SUMMARY: The Department of Commerce (the Department) has received timely requests to conduct new shipper reviews of the antidumping duty order on freshwater crawfish tail meat from the People's Republic of China (PRC). In accordance with 19 CFR 351.214(d), we are initiating reviews for Shanghai Blessing Trade Co. Ltd. (Shanghai Blessing) and its producer Yichang Shilian Foodstuff Co. Ltd. (Yichang Shilian) and for Dafeng Shunli Import & Export Co., Ltd. (Shunli) and its producer Anhui Fuhuang Chaohu Sanzhen Co., Ltd. (AFCS).

EFFECTIVE DATE: November 3, 2004.

FOR FURTHER INFORMATION CONTACT: Matthew Renkey or Scott Fullerton, Office 6, Import Administration, International Trade Administration, U.S. Department of Commerce, 14th Street and Constitution Avenue, NW, Washington, DC 20230; telephone: (202) 482-2312 or (202) 482-1386, respectively.

Background

The Department received timely requests from Shanghai Blessing (September 14, 2004) and Shunli (September 30, 2004), pursuant to section 751(a)(2)(B) of the Tariff Act of 1930, as amended (the Act), and in accordance with 19 CFR 351.214(c)), for new shipper reviews of the antidumping duty order on freshwater crawfish tail meat from the PRC.

Initiation of Reviews

Pursuant to 19 CFR 351.214(b)(2)(ii) and 19 CFR 351.214(b)(2)(iii)(A), in their requests for review, Shanghai Blessing and Shunli certified that they did not export the subject merchandise to the United States during the period of investigation (POI) and that they are not affiliated with any company which exported subject merchandise to the United States during the POI. Pursuant to 19 CFR 351.214(b)(2)(iii)(B), Shanghai Blessing and Shunli further certified that their export activities are not controlled by the central government of the PRC. Also, in accordance with 19 CFR 351.214(b)(2)(iv), Shanghai Blessing and Shunli submitted documentation establishing the date on which each company first shipped the subject merchandise to the United States, the volume of its first shipment, and the date of the first sale to an unaffiliated customer in the United States.

Therefore, in accordance with section 751(a)(2)(B) of the Act and 19 CFR 351.214(d), we are initiating new shipper reviews of the antidumping duty order on freshwater crawfish tail meat from the PRC. In accordance with 19 CFR 351.214(h)(i), we intend to issue the preliminary results of these reviews not later than 180 days from the date of publication of this notice. All provisions of 19 CFR 351.214 will apply to subject merchandise exported by Shanghai Blessing and produced by Yichang Shilian, and subject merchandise exported by Shunli and produced by AFCS.

In accordance with 19 CFR 351.214(g)(1)(i)(A), the period of review (POR) for a new shipper review initiated in the month immediately following the annual anniversary month is the twelve-month period immediately preceding the annual anniversary month. Therefore, the new shipper reviews will have a POR of September 1, 2003 through August 31, 2004.

Shanghai Blessing has identified Yichang Shilian as the producer of the subject merchandise for the sale under review. In addition, Shunli has identified AFCS as the producer of the subject merchandise for the sale under review. We will apply the bonding option under 19 CFR 351.107(b)(1)(i) only to entries of subject merchandise from these two exporters for which the respective producers under review are the suppliers.

Interested parties may submit applications for disclosure of business proprietary information under administrative protective order in accordance with 19 CFR 351.305 and 351.306.

This initiation and notice are in accordance with section 751(a)(2)(B) of the Act (19 U.S.C. 1675(a)(2)(B)) and 19 CFR 351.214.

Dated: October 27, 2004.
Jeffrey A. May,
Deputy Assistant Secretary for Import Administration.

[FR Doc. E4-2997 Filed 11-2-02; 8:45 am]

BILLING CODE 3510-DS-S